DEPARTMENT OF THE INTERIOR

Bureau of Land Management

[LLHQ430000.L12200000.PM0000; OMB Control No. 1004-0NEW]

Agency Information Collection Activities; Surveys and Focus Groups To Support Outcomes-Focused Management (Recreation Survey and Focus Groups)

AGENCY: Bureau of Land Management, Interior.

ACTION: Notice of information collection; request for comment.

SUMMARY: In accordance with the Paperwork Reduction Act of 1995 (PRA), the Bureau of Land Management (BLM) has submitted a new information collection request (ICR) to the Office of Management and Budget (OMB) for review.

DATES: Interested persons are invited to submit comments on or before November 19, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request additional information about this ICR, contact Matt Blocker, Outdoor Recreation Planner, by email at mblocker@blm.gov, or by telephone at (801) 539-4011. Individuals who are hearing or speech impaired may call the Federal Relay Service at 1-800-877-8339 for TTY assistance.

SUPPLEMENTARY INFORMATION: In accordance with the PRA (44 U.S.C. 3501 et seq.) and 5 CFR 1320.8(d)(1)), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on June 28, 2021 (86 FR 34037). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Information will be collected from visitors of public lands and community members near public lands. Information gathered from visitors and local community residents will be used to inform planning decisions in support of BLM's Planning for Recreation and Visitor Services Handbook H-8320-1. This request is for OMB to approve these new surveys and focus groups for three years.

Title of Collection: Surveys and Focus Groups To Support Outcomes-Focused Management (Recreation Survey and Focus Groups).

OMB Control Number: 1004-0NEW.

Form Numbers: None.

Type of Review: New collection (Request for a new OMB Control Number).

Respondents/Affected Public: Individuals or households.

Total Estimated Number of Annual Respondents: 5,112.

Total Estimated Number of Annual Responses: 7,380.

Estimated Completion Time per Response: Varies from 1 minute to answer an on-site survey to 90 minutes to participate in a focus group.

Total Estimated Number of Annual Burden Hours: 2,093.

Respondent's Obligation: Voluntary.

Frequency of Collection: On occasion.

Total Estimated Annual Nonhour Burden Cost: $0.

An agency may not conduct or sponsor and, notwithstanding any other provision of law, a person is not required to respond to a collection of information unless it displays a currently valid OMB control number.

The authority for this action is the Paperwork Reduction Act of 1995 (44 U.S.C. 3501 et seq.).

Darrin King,
Information Collection Clearance Officer.

[FR Doc. 2021-22816 Filed 10-19-21; 8:45 am]

BILLING CODE 4310-84-P